ENVIRONMENTAL PROTECTION AGENCY

40 CFR Part 228

[EPA-R10-OW-2006-0409; FRL-9161-6]

Ocean Dumping; Correction of Typographical Error in 2006 Federal Register Final Rule for Designation of Ocean Dredged Material Disposal Site at Coos Bay, OR, Site F; Restoration of Coordinates for Ocean Dredged Material Disposal Site at Coos Bay, OR, Site H

AGENCY: Environmental Protection Agency (EPA).

ACTION: Proposed rule.

SUMMARY: The EPA proposes to correct a typographical error in the Final Rule for the Ocean Dumping; De-designation of Ocean Dredged Material Disposal Site and Designation of New Site near Coos Bay, Oregon.

DATES: Send written comments by July 15, 2010.

ADDRESSES: Send written comments to Jessica Winkler, U.S. Environmental Protection Agency, Region 10, Office of Ecosystems, Tribal and Public Affairs (ETPA-088), Environmental Review and Sediment Management Unit, 1200 Sixth Avenue, Suite 900, Seattle, Washington 98101, phone number: (206) 553-7369, e-mail: winkler.jessica@epa.gov. You may also submit comments electronically; please follow the detailed instructions in the ADDRESSES section of the direct final rule which is located in the Rules section of this Federal Register.

FOR FURTHER INFORMATION CONTACT: Jessica Winkler, U.S. Environmental Protection Agency, Region 10, Office of Ecosystems, Tribal and Public Affairs (ETPA-088), Environmental Review and Sediment Management Unit, 1200 Sixth Avenue, Suite 900, Seattle, Washington 98101, phone number: (206) 553-7369, e-mail: winkler.jessica@epa.gov.

SUPPLEMENTARY INFORMATION: In the “Rules and Regulations” section of this Federal Register, the EPA is correcting the currently codified coordinates for Site F at 40 CFR 228.15(n)(3) with the coordinates EPA inadvertently, through a typographical error, named 40 CFR 228.15(n)(4) at 71 FR 27396 (May 11, 2006). The EPA is also restoring the coordinates for Site H at 40 CFR 228.15(n)(4) which were overwritten through the EPA's typographical error. The EPA did not make a proposal prior to the direct final rule because we believe these actions are not controversial and do not expect comments that oppose them. We have explained the reasons for this action in the preamble to the direct final rule. Unless we get written comments which oppose this action during the comment period, the direct final rule will become effective on the date established in the preamble to the direct final rule, and we will not take further action on this proposal. If we get comments that oppose this action, we will withdraw the direct final rule and it will not take effect. We will then respond to public comments in a later final rule based on this proposal. You may not have another opportunity for comment. If you want to comment on this action, you must do so at this time. For additional information, please see the direct final rule published in the “Rules and Regulations” section of this Federal Register.

Authority: This action is issued under the authority of Section 102 of the Marine Protection, Research, and Sanctuaries Act, 33 U.S.C. 1401, 1411, 1412.

Dated: June 3, 2010.
Dennis J. McLerran,
Regional Administrator, EPA Region 10.

[FR Doc. 2010-14241 Filed 6-14-10; 8:45 am]

BILLING CODE 6560-50-P